DEPARTMENT OF EDUCATION

34 CFR Chapter III

[Docket ID ED-2014-OSERS-0012]

Proposed Priorities—National Institute on Disability and Rehabilitation Research—Rehabilitation Research and Training Centers

AGENCY: Office of Special Education and Rehabilitative Services, Department of Education.

ACTION: Proposed priorities.

[CFDA Numbers: 84.133B-6 and B-7.]

SUMMARY: The Assistant Secretary for Special Education and Rehabilitative Services proposes two priorities for the Rehabilitation Research and Training Center (RRTC) Program administered by the National Institute on Disability and Rehabilitation Research (NIDRR). Specifically, this notice proposes priorities for an RRTC on Transition to Employment for Youth and Young Adults with Serious Mental Health Conditions and Community Living and Participation of Youth and Young Adults with Serious Mental Health Conditions. This RRTC will be jointly funded by NIDRR and the Substance Abuse Mental Health Services Administration (SAMHSA). We take this action to focus research attention on an area of national need. We intend these priorities to contribute to improved outcomes in the transition to employment and in community living and participation of youth and young adults with serious mental health conditions and psychiatric disabilities.

DATES: We must receive your comments on or before May 15, 2014.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Patricia Barrett, U.S. Department of Education, 400 Maryland Avenue SW., Room 5142, Potomac Center Plaza (PCP), Washington, DC 20202-2700.

Privacy Note: The Department's policy is to make all comments received from members of the public available for public viewing in their entirety on the Federal eRulemaking Portal at www.regulations.gov. Therefore, commenters should be careful to include in their comments only information that they wish to make publicly available.

FOR FURTHER INFORMATION CONTACT: Patricia Barrett, U.S. Department of Education, 400 Maryland Avenue SW., Room 5142, PCP, Washington, DC 20202-2700. Telephone: (202) 245-6211 or by email: patricia.barrett@ed.gov.

If you use a telecommunications device for the deaf (TDD) or a text telephone (TTY), call the Federal Relay Service (FRS), toll free, at 1-800-877-8339.

SUPPLEMENTARY INFORMATION: These proposed priorities are in concert with NIDRR's currently approved Long-Range Plan (Plan). The Plan, which was published in the Federal Register on April 4, 2013 (78 FR 20299), can be accessed on the Internet at the following site: www.ed.gov/about/offices/list/osers/nidrr/policy.html.

Through the implementation of the Plan, NIDRR seeks to: (1) Improve the quality and utility of disability and rehabilitation research; (2) foster an exchange of research findings, expertise, and other information to advance knowledge and understanding of the needs of individuals with disabilities and their family members, including those from among traditionally underserved populations; (3) determine effective practices, programs, and policies to improve community living and participation, employment, and health and function outcomes for individuals with disabilities of all ages; (4) identify research gaps and areas for promising research investments; (5) identify and promote effective mechanisms for integrating research and practice; and (6) disseminate research findings to all major stakeholder groups, including individuals with disabilities and their families in formats that are appropriate and meaningful to them.

This notice proposes two priorities that NIDRR intends to use for one or more competitions in FY 2014 and possibly later years. NIDRR is under no obligation to make an award under these priorities. The decision to make an award will be based on the quality of applications received and available funding. NIDRR may publish additional priorities, as needed.

Invitation to Comment: We invite you to submit comments regarding these priorities. To ensure that your comments have maximum effect in developing the final priorities, we urge you to identify clearly the specific topic that each comment addresses.

We invite you to assist us in complying with the specific requirements of Executive Orders 12866 and 13563 and their overall requirement of reducing regulatory burden that might result from these proposed priorities. Please let us know of any further ways we could reduce potential costs or increase potential benefits while preserving the effective and efficient administration of the programs.

During and after the comment period, you may inspect all public comments about these proposed priorities in Room 5142, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through well-designed research, training, technical assistance, and dissemination activities in important topical areas as specified by NIDRR. These activities are designed to benefit rehabilitation service providers, individuals with disabilities, family members, policymakers and other research stakeholders. Additional information on the RRTC program can be found at: http://www2.ed.gov/programs/rrtc/index.html.

Program Authority: 29 U.S.C. 762(g) and 764(b)(2).

Applicable Program Regulations: 34 CFR part 350.

Proposed Priorities

This notice contains two proposed priorities:

Background

The estimated prevalence of serious mental health conditions (SMHC) in young adults ages 18 to 26 ranges from 6 percent to 8 percent (U.S. Government Accountability Office [GAO], 2008; Substance Abuse and Mental Health Services Administration [SAMHSA], 2012a). In addition, the prevalence of serious emotional disturbance in youth ages 13 to 17 has been estimated to be about 8 percent (Kessler et. al., 2012). Some youth and young adults are at particularly high risk for challenges associated with SMHC, including youth with multiple diagnoses, those who are or have been involved in foster care, those involved in the justice system, and those who experience psychosis (GAO, 2008; Institute of Medicine [IOM], 2013). They also include those who reside in poverty and low service access communities, those who experience socioeconomic disadvantage, and those from underserved cultural communities (Alegria et al., 2010).

Youth and young adults with SMHC face serious challenges to achieving successful employment outcomes, including challenges in completing postsecondary education or training (IOM, 2013; Woolsey & Katz-Leavy, 2008), as well as challenges in community living and participation (Kaplan et al., 2012; Seo et al., 2013). One key to facing these challenges may be improved self-determination (Seo et al., 2013). Self-determination is a personal characteristic that leads individuals to make their own choices and decisions, to monitor and regulate their own actions and to be goal-oriented and self-directing (National Gateway to Self-Determination, www.ngsd.org/everyone/what-self-determination). It is also reflected in SAMHSA's definition of recovery from mental disorders (SAMHSA, 2012b).

Youth and young adults with SMHC are more likely to suffer negative outcomes in high school completion, short- and long-term unemployment, and other employment related variables (Bradley et al, 2008; Wagner et al., 2005). For example, they are less likely than their peers with other disabilities (e.g., learning disabilities) to be employed, and have marked difficulty in maintaining employment. There is a need for evidence-based and effective interventions, systems, and policies designed to improve employment and employment-related outcomes for youth and young adults with SMHC. Because evidence suggests that the effectiveness of interventions depends on the age of the participant (Burke-Miller et al., 2012), employment-related interventions should be developmentally appropriate for youth and young adults.

In addition, because educational attainment is a consistent predictor of later employment achievements (Burke-Miller et al., 2012; Ellison, et al., 2008; Tsang et al., 2000) it is important to develop effective supports for academic success, retention, and post-secondary participation for youth and young adults with SMHC (Rogers, et al., 2010).

As in the case for employment, there is a need for evidence-based and effective interventions, systems, and policies designed to improve community living and participation for youth and young adults with SMHC. This population is more likely than their peers without SMHC to have been involved with the justice system, to have defaulted on a financial obligation, and to be involved in a violent relationship (IOM, 2013; Newman et al., 2011). In addition, youth and young adults with SMHC frequently encounter stigma in their community (Gulliver et al., 2010; Walker, 2010), and experience challenges in the area of social skills (Wagner et al., 2005). As a result of the challenges associated with SMHC, youth and young adults with SMHC are frequently at a disadvantage in establishing the relationships and connections that contribute to community living and participation (Kaplan et al., 2012).

Improving employment and community living and participation outcomes for youth and young adults depends not just on improvements in interventions and services but also on improvements in policies and systems established to deliver those interventions and services. Such improvements might include increased coordination across types of services, increased coordination between the child and adult mental health system, and increasing the developmental appropriateness of services for young adults in adult systems (GAO, 2008, 2012; Osgood et al., 2010; Plotner et al., 2012; Pottick et al., 2007).

In sum, youth and young adults with SMHC frequently experience challenges in employment and in community living and participation. There is a need for more evidence-based and effective interventions, systems change and coordination, and policies to improve outcomes in these areas for these individuals, particularly those who face the greatest challenges.

References

Alegria, M., Vallas, M., & Pumariega, A. (2010). Racial and ethnic disparities in pediatric mental health. Child and Adolescent Psychiatric Clinics of North America, 19(4), 759.

Bradley, R., Dootlittle, J., & Bartolotta, R. (2008). Building on the data and adding to the discussion: The experiences and outcomes of students with emotional disturbance. Journal of Behavioral Education, 17 (1), 4-23.

Burke-Miller, J., Razzano, L. A., Grey, D. D., Blyler, C. R., & Cook, J. A. (2012). Supported employment outcomes for transition age youth and young adults. Psychiatric Rehabilitation Journal, 35, 171-179.

Ellison, M. L., Russinova, Z., Lyass, A., & Rogers, E. S. (2008). Professionals and managers with severe mental illnesses: Findings from a national survey. The Journal of Nervous and Mental Disease, 196(3), 179-189.

Gulliver, A., Griffiths, K. M., & Christensen, H. (2010). Perceived barriers and facilitators to mental health help-seeking in young people: A systematic review. BMC Psychiatry, 10, 113-121.

Institute of Medicine (2013). Improving the health, safety, and well-being of young adults: Workshop summary. Washington, DC: National Academies Press.

Kaplan, K., Salzer, M. S., & Brusilovskly, E. (2012). Community participation as a predictor of recovery-oriented outcomes among emerging and mature adults with mental illnesses. Psychiatric Rehabilitation Journal, 35, 219-229.

Kessler, R. C., Avenevoli, S., Costello, J., Green, J. G., Gruber, M. J., McLaughlin, K. A., Petukova, M., Sampson, N. A., Zaslavsky, A. M., & Merikangas, K. R. (2012). Severity of 12-month DSM-IV disorders in the National Comorbidity Survey Replication Adolescent Supplement. Archives of General Psychiatry, 69, 381-389.

Newman, L., Wagner, M., Knokey, A., Marder, C., Nagle, K., Shaver, D., & Wei, X. (2011). The post-high school outcomes of young adults with disabilities up to 8 years after high school: A report from the National Longitudinal Transition Study 2 (NLTS2). NCSER2011-3005. National Center for Special Education Research.

Osgood, D. W., Foster, E. M., & Courtney, M. E. (2010). Vulnerable populations and the transition to adulthood. The Future of Children, 20(1), 209-229.

Plotner, A. J., Trach, J. S., & Strauser, D. (2012). Vocational rehabilitation counselors' identified transition competencies. Rehabilitation Counseling Bulletin, 55, 135-143.

Pottick, K. J., Bilder, S., Vander Stoep, A., Warner, L. A., & Alvarez, M. F. (2007). US patterns of mental health service utilization for transition-age youth and young adults. Journal of Behavioral Health Services & Research, 35, 373-389.

Rogers, E. S., Kash-Macdonald, M., Bruker, D., & Maru, M. (2010). Systematic review of supported education literature, 1989-2009. Boston, MA: Boston University, Sargent College, Center for Psychiatric Rehabilitation.

Seo, H., Wehmeyer, M. L., Palmer, S. B., & Little, T. D. (2013). A two-group confirmatory factor analysis of The Arc's Self-Determination Scale with students with emotional/behavioral disorders or learning disabilities. Journal of Emotional and Behavioral Disorders. Advanced online publication.doi:10.1177/1063426613503496.

Substance Abuse and Mental Health Services Administration, U.S. Department of Health and Human Services. (2012a). 2010-2011 National Survey on Drug Use and Health-Model Based Estimates (50 states and the District of Columbia). Retrieved from: www.samhsa.gov/data/NSDUH/2k11State/NSDUHsaeTables2011.pdf.

Substance Abuse and Mental Health Services Administration, U.S. Department of Health and Human Services (2012b). SAMHSA's working definition of recovery updated. Retrieved from: blog.samhsa.gov/2012/03/23/defintion-of-recovery-updated.

Tsang, H., Lam, P., Ng, B., & Leung, O. (2000). Predictors of employment outcome for people with psychiatric disabilities: A review of literature since the mid80s. Journal of Rehabilitation, 66(2), 19-31.

U.S. General Accountability Office (June, 2008). Young adults with serious mental illness: Some states and federal agencies are taking steps to address their transition challenges. GAO-08-678.

U.S. General Accountability Office (July, 2012). Students with disabilities: Better Federal coordination could lessen challenges in the transition from high school. GAO-12-594.

Wagner, M., Kutash, K., Duchnowski, A., Epstein, M., & Sumi, W. (2005). The children and Youth We Serve A National Picture of the Characteristics of Students with Emotional disturbances Receiving Special Education. Journal of emotional and behavior disorders, 13(2), 79-96.

Wagner, M., Newman, L., Cameto, R., Garza, N., & Levine, P. (2005). After high school: A first look at the postschool experiences of youth with disabilities. A report from the National Longitudinal Transition Study-2 (NLTS2). Retrieved from: http://files.eric.ed.gov/fulltext/ED494935.pdf.

Walker, J. S. (2010). Children's stigmatization of peers with common emotional and behavioral disorders. Emotional & Behavioral Disorders in Youth, 10(2), 44-51.

Woolsey, L., & Katz-Leavy, J. (2008). Transitioning youth with mental health needs to meaningful employment and independent living. Washington, DC: National Collaborative on Workforce and Disability.

Definitions

The research that is proposed under this priority must be focused on one or more stages of research. If the RRTC is to conduct research that can be categorized under more than one research stage, or research that progresses from one stage to another, those research stages must be clearly specified. For purposes of this priority, the stages of research are from the notice of final priorities and definitions published in the Federal Register on May 7, 2013 (78 FR 26513).

(i) Exploration and discovery means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration and discovery stage of research may also be used to inform decisions or priorities;

(ii) Intervention development means the stage of research that focuses on generating and testing interventions that have the potential to improve outcomes for individuals with disabilities. Intervention development involves determining the active components of possible interventions, developing measures that would be required to illustrate outcomes, specifying target populations, conducting field tests, and assessing the feasibility of conducting a well-designed intervention study. Results from this stage of research may be used to inform the design of a study to test the efficacy of an intervention;

(iii) Intervention efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications; and

(iv) Scale-Up evaluation means the stage of research during which a project analyzes whether an intervention is effective in producing improved outcomes for individuals with disabilities when implemented in a real-world setting. During this stage of research, a project tests the outcomes of an evidence-based intervention in different settings. It examines the challenges to successful replication of the intervention, and the circumstances and activities that contribute to successful adoption of the intervention in real-world settings. This stage of research may also include well-designed studies of an intervention that has been widely adopted in practice, but that lacks a sufficient evidence-base to demonstrate its effectiveness.

Proposed Priorities

Proposed Priority 1—Transition to Employment for Youth and Young Adults With Serious Mental Health Conditions

The Acting Assistant Secretary for Special Education and Rehabilitative Services proposes a priority for a Rehabilitation Research and Training Center (RRTC) on Transition to Employment for Youth and Young Adults with Serious Mental Health Conditions (SMHC). This RRTC must conduct research that contributes to improved employment outcomes (e.g., obtaining employment, retention, and earnings) and employment-related outcomes (e.g., postsecondary education, training and career development activities) for youth and young adults with SMHC.

For purposes of this priority, the term “youth and young adults with SMHC” refers to individuals between the ages of 14 and 30, inclusive, who have been diagnosed either with a serious emotional disturbance (for individuals under the age of 18 years) or a serious mental illness (for those 18 years of age or older). Under this priority, the RRTC must contribute to the following outcomes:

(a) More effective and developmentally appropriate interventions that improve employment outcomes and increase capacity to use self-determination skills and strategies for youth and young adults with SMHC. The RRTC must contribute to this outcome by:

(i) Identifying or developing, and then evaluating, innovative interventions that meet the needs of youth and young adults with SMHC;

(ii) Involving youth and young adults with SMHC, and their families or family surrogates, in the processes of identifying or developing, and then evaluating interventions; and

(iii) Including youth and young adults with SMHC who are at particular risk for less favorable employment outcomes, (e.g., unemployment and difficulty maintaining employment). Applicants must identify the specific at-risk group or groups of youth and young adults with SMHC they propose to study, provide evidence that the selected population or populations are at risk for poor employment outcomes, and explain how the proposed practices are expected to address the needs of the identified population.

(b) Increased knowledge about workforce participation of youth and young adults with SMHC, as well as the service systems and evidence-based supported practices that enhance positive educational and vocational development. In generating this new knowledge, applicants should identify one or more specific stages of research. If the RRTC is to conduct research that can be categorized under more than one of the research stages, or research that progresses from one stage to another, those stages should be clearly specified. (These research stages and their definitions are provided in the Definitions section of this notice.)

(c) Increased capacity of organizations, State agencies, and other service providers for youth and young adults with SMHC to improve their educational and employment outcomes. The RRTC will provide training and technical assistance to service providers who work with youth and young adults with SMHC.

(d) New knowledge regarding changes in systems and policies that could improve education, career development, and employment for youth and young adults with SMHC.

(e) Serving as a national resource center to:

(i) Provide information and technical assistance to youth and young adults with SMHC and their representatives, and other key stakeholders;

(ii) Provide training (including graduate, pre-service, and in-service training) and technical assistance to vocational rehabilitation providers and other disability service providers to facilitate more effective delivery of services to youth and young adults with SMHC. This training may be provided through conferences, workshops, public education programs, in-service training programs, and similar activities;

(iii) Disseminate research-based information and materials related to employment of youth and young adults with SMHC; and

(iv) Involve key stakeholder groups in the activities conducted under paragraph (a) in order to maximize the relevance and usability of the new knowledge generated by the RRTC.

Priority 2—Community Living and Participation for Youth and Young Adults With Serious Mental Health Conditions

The Acting Assistant Secretary for Special Education and Rehabilitative Services proposes a priority for a Rehabilitation Research and Training Center (RRTC) on Community Living and Participation of Youth and Young Adults with Serious Mental Health Conditions (SMHC). This RRTC must conduct research that contributes to improved community participation for youth and young adults with SMHC.

For purposes of this priority, the term “youth and young adults with SMHC” refers to individuals between the ages of 14 and 30, inclusive, who have been diagnosed either with serious emotional disturbance (for individuals under the age of 18 years) or a serious mental illness (for those 18 years of age or older). Under this priority, the RRTC must contribute to the following outcomes:

(a) More effective and developmentally appropriate interventions that improve community living and participation outcomes and increase capacity to use self-determinations skills and strategies for youth and young adults with SMHC. The RRTC must contribute to this outcome by:

(i) Identifying or developing and then evaluating innovative interventions that meet the needs of youth and young adults with SMHC;

(ii) Involving youth and young adults with SMHC, and their families or family surrogates, in the processes of identifying or developing and then evaluating interventions; and

(iii) Ensuring that samples include youth and young adults with SMHC who are at particular risk for less favorable community living and participation outcomes, including, but not limited to those with justice system involvement, those in foster care, and those with multiple diagnoses. Applicants must identify the specific at-risk group or groups of youth and young adults with SMHC they propose to study, provide evidence that the selected population or populations are at risk for less favorable community living and participation outcomes, and explain how the proposed practices are expected to address the needs of the identified population.

(b) Increased capacity of organizations and service providers for youth and young adults with SMHC to promote the social and self-determination skills of youth and young adults with SMHC and help them build connections with positive individuals and organizations in their communities. The RRTC will provide training and technical assistance to service providers who work with youth and young adults with SMHC.

(c) New knowledge about key systems and policy issues that influence decisions about eligibility, effectiveness, structure, implementation and funding for programs and initiatives that support community living and participation and self-determination in youth and young adults with SMHC. In generating this new knowledge, applicants should identify one or more specific stages of research. If the RRTC is to conduct research that can be categorized under more than one of the research stages, or research that progresses from one stage to another, those stages should be clearly specified. (These research stages and their definitions are provided in the Definitions section of this notice.)

(d) Serving as a national resource center related to community participation and self-determination of youth and young adults with SMHC by:

(i) Providing information and technical assistance to youth and young adults with SMHC and their representatives, and other key stakeholders;

(ii) Providing training (including graduate, pre-service, and in-service training) and technical assistance service providers, to facilitate more effective delivery of services to youth and young adults with SMHC. This training may be provided through conferences, workshops, public education programs, in-service training programs, and similar activities;

(iii) Disseminating research-based information and materials related to community living and participation and self-determination of youth and young adults with SMHC; and

(iv) Involving key stakeholder groups in the activities conducted under paragraph (a) in order to maximize the relevance and usability of the new knowledge generated by the RRTC.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priorities

We will announce the final priorities in a notice in the Federal Register. We will determine the final priorities after considering responses to this notice and other information available to the Department. This notice does not preclude us from proposing additional priorities, requirements, definitions, or selection criteria, subject to meeting applicable rulemaking requirements.

Note: This notice does not solicit applications. In any year in which we choose to use one or more of these priorities, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities only upon a reasoned determination that their benefits would justify their costs. In choosing among alternative regulatory approaches, we selected those approaches that would maximize net benefits. Based on the analysis that follows, the Department believes that these proposed priorities are consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to the RRTCs have been completed successfully, and the proposed priorities will generate new knowledge through research. The new RRTCs will generate, disseminate, and promote the use of new information that would improve outcomes for individuals with disabilities in the areas of community living and participation, employment, and health and function.

Intergovernmental Review: This program is not subject to Executive Order 12372 and the regulations in 34 CFR Part 79.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 10, 2014.
Michael K. Yudin,
Acting Assistant, Secretary for Special Education and Rehabilitative Services.

[FR Doc. 2014-08556 Filed 4-14-14; 8:45 am]

BILLING CODE 4000-01-P